DEPARTMENT OF AGRICULTURE

Natural Resources Conservation Service

Middle Fork of the Popo Agie Watershed, Fremont County, WY

AGENCY: Natural Resources Conservation Service.

ACTION: Notice of intent to prepare an environmental impact statement.

SUMMARY: Pursuant to Section 102(2)(C) of the National Environmental Policy Act of 1969; the Council of Environmental Quality Guidelines (40 CFR Part 1500); and the Natural Resources Conservation Service Guidelines (7 CFR Part 650); the Natural Resources Conservation Service, U.S. Department of Agriculture, gives notice that an environmental impact statement is being prepared for The Middle Fork of the Popo Agie Watershed, Fremont County, Wyoming.

FOR FURTHER INFORMATION CONTACT: Lincoln E. Burton, State Conservationist, Natural Resources Conservation Service, 100 East B Street, Room 3124, Casper, Wyoming 82601, telephone: 307-261-6453.

SUPPLEMENTARY INFORMATION: The environmental assessment of this federally assisted action indicates that the project may cause significant local, regional, or national impacts on the environment. As a result of these findings, Lincoln E. Burton, State Conservationist, has determined that the preparation and review of an environmental impact statement is needed for this project.

The project concerns flood prevention and stream channel restoration of the Middle Fork of the Popo Agie through Lander, Wyoming to the confluence of the North Fork of the Popo Agie.

Alternatives under consideration:

1. Diversion through or around town with channel restoration.

2. Flood wall and channel restoration.

3. Upstream Storage and channel restoration.

A draft environmental impact statement will be prepared and circulated for review by agencies and the public. The Natural Resources Conservation Service invites participation and consultation of agencies and individuals that have special expertise, legal jurisdiction, or interest in the preparation of the draft environmental impact statement. Meeting will be held in Lander, Wyoming on Wednesday, January 8, 2003 at Inn at Lander Best Western, 260 Grand Avenue from 7 p.m. until 9 p.m. To determine the scope of the evaluation of the proposed action. Further information on the proposed action or the scoping meeting may be obtained from Lincoln E. Burton, State Conservationist, at the above address or telephone.

Dated: November 12, 2002.
Lincoln E. Burton,
State Conservationist.

[FR Doc. 02-30049 Filed 11-25-02; 8:45 am]

BILLING CODE 3410-16-P